DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collections: (1) Regulations 29 CFR Part 4, Labor Standards for Federal Service Contracts; (2) Employer's First Report of Injury or Occupational Disease (LS-202), Physician's Report on Impairment of Vision (LS-205), Employer's Supplementary Report of Accident or Occupational Illness (LS-210); and (3) Notice of Law Enforcement Officer's Injury or Occupational Disease (CA-721) and Notice of Law Enforcement Officer's Death (CA-722).

DATES: Written comments must be submitted to the office listed in the addresses section below on or before June 18, 2001.

ADDRESSES: Ms. Patricia A. Forkel, U. S. Department of Labor, 200 Constitution Ave., NW., Room S-3201, Washington, DC 20210, telephone (202) 693-0339 (this is not a toll-free number), fax (202) 693-1451.

SUPPLEMENTARY INFORMATION:

Regulations 29 CFR Part 4—Labor Standards for Federal Service Contracts

I. Background

The Service Contract Act (SCA) and Regulations 29 CFR Part 4 impose certain recordkeeping and incidental reporting requirements applicable to employers with employees performing on service contracts within the Federal government. The basic payroll recordkeeping requirements contained in this regulation (sections 4.6(g)(i) through (iv)) have been previously approved under OMB number 1215-0017, which constitutes the basic recordkeeping regulations for all laws administered by the Wage and Hour Division. This information collection request contains three requirements not cleared under the above information collection. They are: a vacation benefit seniority list, which is used by the contractor to determine vacation fringe benefit entitlements earned and accrued by service contract employees who were employed by predecessor contractors; a conformance record report, which is used by Wage and Hour to determine the appropriateness of the conformance and compliance with the SCA and its regulations; and a collective bargaining agreement, submitted by the contracting agency to Wage and Hour to be used in the issuance of wage determinations for successor contracts subject to section 2(a) and 4(c) of the SCA.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

II. Current Actions

The Department of Labor seeks the extension of approval for this information collection in order to carry out the provisions of the Service Contract Act.

Type of Review: Extension.

Agency: Employment Standards Administration.

Title: Regulations 29 CFR Part 4—Labor Standards for Federal Service Contracts.

OMB Number: 1215-0150.

Affected Public: Businesses or other for-profit; Federal government.

Frequency: On occasion.

Requirement | Number of respondents | Average time per response | Burden hours
Vacation Benefit List | 62,332 | 1 hour | 62,332
Conformance Record | 194 | ½ hour | 97
Collective Bargaining Agreements | 1,500 | 5 minutes | 125

Total Respondents: 64,026.

Estimated Total Burden Hours: 62,554.

Total Burden Cost (capital/startup): $0.

Total Burden Cost (operating/maintenance): $0.

Employer's First Report of Injury or Occupational Disease (LS-202); Physician's Report on Impairment of Vision (LS-205); Employer's Supplementary Report of Accident or Occupational Illness (LS-210)

I. Background

The Longshore and Harbor Workers' Compensation Act provides benefits to workers injured in maritime employment on the navigable waters of the United States or in an adjoining area customarily used by an employee in loading, unloading, repairing, or building a vessel. The LS-202 is used by employers initially to report injuries that have occurred which are covered under the Longshore Act and its related statutes. The LS-210 is used to report additional periods of lost time from work. The LS-205 is a medical report based on a comprehensive examination of visual impairment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval of this information collection in order to ensure that employers are complying with the reporting requirements of the Act and to ensure that injured claimants receive all compensation benefits to which they are entitled.

Type of Review: Extension.

Agency: Employment Standards Administration.

Title: Employer's First Report of Injury or Occupational Disease (LS-202); Physician's Report on Impairment of Vision (LS-205); Employer's Supplementary Report of Accident or Occupational Illness (LS-210).

OMB Number: 1215-0031.

Agency Number: LS-202, LS-205, LS-210.

Affected Public: Individuals or households; Business or other for-profit; Not-for-profit institutions.

Frequency: On occasion.

Form | Total respondents | Average time per response | Burden hours
LS-202 | 24,000 | 15 minutes | 6,000
LS-205 | 80 | 45 minutes | 60
LS-210 | 2,580 | 15 minutes | 645

Total Responses: 26,660.

Estimated Total Burden Hours: 6,705.

Total Burden Cost (capital/startup): $0.

Total Burden Cost (operating/maintenance): $11,100.

Notice of Law Enforcement Officer's Injury or Occupational Illness (CA-721); Notice of Law Enforcement Officer's Death (CA-722)

I. Background

The Federal Employees' Compensation Act (FECA) provides, under 5 U.S.C. 8191, et. seq., that non-Federal law enforcement officers injured or killed under certain circumstances are entitled to the benefits of the Act, to the same extent as if they were employees of the Federal government. The CA-721 and CA-722 are used by non-Federal law enforcement officers and their survivors to claim compensation under the FECA. Form CA-721 is used for claims for injury and Form CA-722 is used for claims for death.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval of this information collection in order to determine eligibility for benefits.

Type of Review: Extension.

Agency: Employment Standards Administration.

Title: Notice of Law Enforcement Officer's Injury or Occupational Disease (CA-721); Notice of Law Enforcement Officer's Death (CA-722).

OMB Number: 1215-0116.

Agency Number: CA-721; CA-722.

Affected Public: Individuals or households; Business or other for-profit; State, Local or Tribal Government.

Frequency: On occasion.

Form | Total respondents | Average time per response | Burden hours
CA-721 | 8 | 1 hour | 8
CA-722 | 15 | 1.5 hours | 23

Total Responses: 23.

Estimated Total Burden Hours: 31.

Total Burden Cost (capital/startup): $0.

Total Burden Cost (operating/maintenance): $8.51.

Comments submitted in response to this notice will be summarized and/or included in the request for Office of Management and Budget approval of the information collection request; they will also become a matter of public record.

Dated: April 10, 2001.
Margaret J. Sherrill,
Chief, Branch of Management Review and Internal Control, Division of Financial Management, Office of Management, Administration and Planning, Employment Standards Administration.

[FR Doc. 01-9575 Filed 4-17-01; 8:45 am]

BILLING CODE 4510-27-P